DEPARTMENT OF AGRICULTURE

Foreign Agricultural Service

Notice of a Request for Revision and Extension of a Currently Approved Information Collection

AGENCY: Foreign Agricultural Service, USDA.

ACTION: Notice and request for comments.

SUMMARY: In accordance with the Paperwork Reduction Act of 1995, this notice announces the intention of the Foreign Agricultural Service (FAS) to request a revision and extension from the Office of Management and Budget (OMB) of a currently approved information collection for the Dairy Tariff-Rate Quota (TRQ) Import Licensing program.

DATES: Comments on this notice must be received by August 21, 2023 to be assured of consideration.

ADDRESSES: You may send comments, identified by the OMB Control number 0551-0001, by any of the following methods:

• Federal eRulemaking Portal: http://www.regulations.gov. This portal enables respondents to enter short comments or attach a file containing lengthier comments.

• Email: Bettyann.Gonzales@usda.gov. Include OMB Control number 0551-0001 in the subject line of the message.

• Mail, Courier, or Hand Delivery: BettyAnn Gonzales, Foreign Agricultural Service, U.S. Department of Agriculture, 1400 Independence Avenue SW, Room 5550, Stop 1070, Washington, DC 20250-1070.

Instructions: All submissions received must include the agency name and OMB Control Number for this notice.

FOR FURTHER INFORMATION CONTACT: BettyAnn Gonzales, 202 720-1344, Bettyann.Gonzales@usda.gov.

SUPPLEMENTARY INFORMATION:

Title: Dairy TRQ Import Licensing Program.

OMB Number: 0551-0001.

Expiration Date of Approval: January 31, 2024.

Type of Request: Revision and extension of a currently approved information collection.

Abstract: The currently approved information collection supports the Dairy TRQ Import Licensing regulation (the Regulation) (7 CFR 6.20-6.36) which governs the administration of the import licensing system applicable to most dairy products subject to TRQs. The TRQs were established in the Harmonized Tariff Schedule of the United States (HTS) as a result of the entry into force of certain provisions in the Uruguay Round Agreements Act (Pub. L. 103-465) that converted existing absolute quotas to TRQs. Imports of nearly all cheeses made from cow's milk (except soft-ripened cheese such as Brie) and certain non-cheese dairy products (including butter and dried milk) are subject to TRQs and the Regulation. Licenses are issued each quota year to eligible applicants and are valid for 12 months (January 1 through December 31). Only licensees may enter specified quantities of the subject dairy articles at the applicable in-quota tariff-rates. Importers who do not hold licenses may enter dairy articles only at the over-quota tariff-rates.

Each quota year, all applicants for historical, non-historical and designated licenses must certify their eligibility for the following quota year through the online Agricultural Trade License Administration System (ATLAS) platform. ATLAS has now replaced any online forms previously utilized before. The ATLAS application process requires applicants to: (1) certify they are an importer, manufacturer, or exporter of certain dairy products; and (2) certify they meet the eligibility requirements of § 6.23 of the Regulation. Applicants for non-historical licenses must request licenses in descending order of preference for specific products and countries listed on the form.

After licenses are issued, § 6.26 requires licensees to surrender by October 1 in ATLAS any license amount that a licensee does not intend to enter that year. If October 1 falls on a weekend, then the deadline will be the next business day. These amounts are reallocated, to the extent practicable, to existing licensees for the remainder of that year based on requests submitted in ATLAS. ATLAS requires the licensee to complete a table listing the surrendered amount by license number. For reallocated quota, the licensee may complete an additional table listing the additional amounts requested by dairy article and supplying country in descending order of preference.

The estimated total annual burden of 479 hours in the Office of Management and Budget (OMB) inventory for the currently approved information collection will decrease to 394 hours. The public reporting burden for this collection of currently approved license application process through ATLAS is estimated to average 368.5 hours; and the license surrender process is 25.5 hours.

Estimate of Burden: The average burden, including the time for reviewing instructions, gathering data needed, data input, and record keeping is estimated at .67 hour for license application and .17 hour for license surrender.

Type of Respondents: Importers and manufacturers of cheese and non-cheese dairy products, and exporters of non-cheese dairy products.

Estimated Number of Respondents: For license application and license surrender under the ATLAS system: 700.

Estimated Number of Responses per Respondent: 1.

Estimated Total Annual Burden: 394 hours.

Copies of this information collection may be obtained from Dacia Rogers, the Agency Information Collection Coordinator, at Dacia.Rogers@usda.gov.

Requests for Comments: Send comments regarding (a) whether the information is necessary for the proper performance of the functions of the agency, including whether the information will have practical utility; (b) the accuracy of the agency's estimate of the burden of the collection of information including validity of the methodology and assumption used; (c) ways to enhance the quality, utility, and clarity of the information to be collected; and (d) ways to minimize the burden of the collection of information on those who are to respond, including through the use of automated, electronic, mechanical, or other technological collection techniques, or other forms of information technology.

All comments received in response to this notice, including names and addresses when provided, will be a matter of public record. Comments will be available without change, including any personal information provided, for inspection online at http://www.regulations.gov and at the mail address listed above between 8:00 a.m. and 4:30 p.m., Monday through Friday, except holidays.

Comments will be summarized and included in the submission for OMB approval.

Persons with disabilities who require an alternative means for communication of information (Braille, large print, audiotape, etc.) should contact RARequest@usda.gov.

Daniel Whitley,
Administrator, Foreign Agricultural Service.

[FR Doc. 2023-13086 Filed 6-20-23; 8:45 am]

BILLING CODE 3410-10-P